DEPARTMENT OF COMMERCE

International Trade Administration

International Industry Symposium at 3Rs Initiative Ministerial Conference (Reduce Waste, Reuse and Recycle); Notice of Opportunity for Participation

SUMMARY: The Deputy Assistant Secretary for Manufacturing at the Department of Commerce will host an informational meeting on March 2, 2005 regarding the 3Rs International Industry Symposium to be hosted by the Government of Japan in Tokyo on April 28, 2005. The 3Rs Initiative (Reduce waste, Reuse and Recycle) was introduced by the Government of Japan and supported by the U.S. at the 2004 G8 summit in Sea Island, Georgia.

DATES: March 2, 2005—2 p.m.-3:30 p.m.: Department of Commerce 3Rs International Industry Symposium Meeting, Department of Commerce Building, 1401 Constitution Ave., NW., Room 1412, Washington, DC 20230.

April 28, 2005—International Industry Symposium, Tokyo, Japan.

ADDRESSES: Please send indications of interest to attend the 3Rs International Industry Symposium, and the DOC 3Rs Meeting by facsimile or e-mail by March 1, 2005 to Sarah E. Aker, 3RsInitiative@mail.doc.gov, Office of the Deputy Assistant Secretary for Manufacturing, Department of Commerce, Room 2132, 1401 Constitution Ave, Washington, DC 20230, Phone: (202) 482-4073, Fax: (202) 482-0856. Please include your name, phone number, and organization affiliation.

SUPPLEMENTARY INFORMATION: The U.S. Department of Commerce Office of Manufacturing, and the 3Rs Interagency group is announcing the opportunity to attend the International Industry Symposium on the 3Rs Initiative on April 28, 2005 in Tokyo, Japan. The 3Rs Initiative (Reduce waste, Reuse and Recycle) was introduced by the Government of Japan and supported by the U.S. at the 2004 G8 summit in Sea Island, Georgia.

It was further agreed at Sea Island that Japan would host a Ministerial level conference that will take place April 29-30, 2005 in Tokyo, Japan to formally launch the initiative. On April 28, 2005 as a side event to the ministerial meeting, the Organization for the Promotion of Sustainable Society (OPSS) and the United Nations University will hold an International Industry Symposium on the 3Rs Initiative for industry representatives under the auspices of the Ministry of Economy, Trade and Industry (METI) and other relevant ministries. The industry meeting will provide a discussion opportunity for those who are interested in developing the 3Rs, and the outcome of the symposium will be reported to the Ministerial meeting. The Department of Commerce seeks the views and input of individual attendees, and not group or consensus advice.

The tentative program for the International Symposium on the 3Rs Initiative as provided by the Government of Japan (http://www.env.go.jp/earth/3r/en/index.html) is as follows:

Track A: Challenges to talking on business activities in the 3Rs system. Topics to be addressed:

How has the business sector contributed to building the 3Rs system?

What kinds of technological developments should be conducted in enhancing the 3Rs system?

Are there any institutional factors obstructing technological development in enhancing the 3Rs system?

How should we inspire the interest of consumers in the 3Rs activities of the business sector?

Track B: EcoDesign. Topics to be addressed:

The industrial best practices of EcoDesign.

EcoDesign for sustainable development.

Prospective tools for enhancing EcoDesign policy (simulator for sustainable development).

Track C: Building an international logistics network for recycling. Topics to be addressed:

Horizontal share of economic activities and international recycling.

Balance between maximizing international resource utilization and protecting the environment.

Challenges to logistics network for international recycling in respect of logistics costs.

Challenges to logistics network for international recycling in respect of regulation of logistics.

Proper control of recyclable materials.

The White House Council on Environmental Quality (CEQ), which is leading the interagency effort, and Joseph H. Bogosian, the Deputy Assistant Secretary for Manufacturing at the U.S. Department of Commerce, would like to solicit interest by March 15, 2005 from stakeholders who would like to attend the International Industry Symposium on April 28 in Tokyo, Japan in order to pass on the preliminary list of interested attendees to the Government of Japan.

Private Sector members are fully responsible for travel, lodging, and personal expenses associated with their participation in this event. They will receive no compensation. The private sector members will present the views and interests of the particular business sector in which they operate; private sector members are not special government employees.

FOR FURTHER INFORMATION: Please contact Sarah E. Aker, Office of the Deputy Assistant Secretary for Manufacturing, Department of Commerce, Room 2132, 1401 Constitution Ave, Washington, DC 20230 3RsInitiative@mail.doc.gov, Phone: (202) 482-4073.

Dated: February 14, 2005.
Sarah E. Aker,
Special Assistant, Office of the Deputy Assistant Secretary for Manufacturing.

[FR Doc. 05-3304 Filed 2-17-05; 8:45 am]

BILLING CODE 3510-DR-P